DEPARTMENT OF ENERGY

Federal Energy Regulatory Commission

Combined Notice of Filings # 1

August 6, 2010.

Take notice that the Commission received the following electric rate filings:

Docket Numbers: ER01-615-018; ER09-746-003; ER96-1551-022.

Applicants: Public Service Company of New Mexico; Optim Energy Marketing, LLC.

Description: Supplemental Information of Public Service Company of New Mexico, et al.

Filed Date: 08/05/2010.

Accession Number: 20100805-5091.

Comment Date: 5 p.m. Eastern Time on Thursday, August 26, 2010.

Docket Numbers: ER06-1502-002; ER08-213-002.

Applicants: Round Rock Energy, LLC, Round Rock Energy, LP.

Description: Notice of Non-Material Change In Status for Round Rock Energy, LLC.

Filed Date: 08/05/2010.

Accession Number: 20100805-5076.

Comment Date: 5 p.m. Eastern Time on Thursday, August 26, 2010.

Docket Numbers: ER07-1259-004.

Applicants: San Joaquin Cogen, LLC.

Description: San Joaquin Cogen, LLC submits Substitute Original Sheet 1 et al. to its FERC Electric Tariff, Second Revised Volume 1.

Filed Date: 08/05/2010.

Accession Number: 20100805-0204.

Comment Date: 5 p.m. Eastern Time on Thursday, August 26, 2010.

Docket Numbers: ER09-1114-003; ER09-1110-002.

Applicants: RRI Energy Services, Inc.; RRI Energy Florida, LLC.

Description: Supplement to Notice of Change in Status filed on February 1, 2010 of RRI Energy Florida, LLC and RRI Energy Services, Inc.

Filed Date: 08/05/2010.

Accession Number: 20100805-5084.

Comment Date: 5 p.m. Eastern Time on Thursday, August 26, 2010.

Docket Numbers: ER10-308-002.

Applicants: Kleen Energy Systems, LLC.

Description: Kleen Energy Systems, LLC submits captioned public utility's conformed market-based rate tariff.

Filed Date: 08/05/2010.

Accession Number: 20100805-0203.

Comment Date: 5 p.m. Eastern Time on Thursday, August 26, 2010.

Docket Numbers: ER10-2097-001.

Applicants: KCP&L Greater Missouri Operations Company.

Description: KCP&L Greater Missouri Operations Company submits tariff filing per 35: KCP&L-GMO Baseline Compliance Filing to be effective 8/2/2010.

Filed Date: 08/05/2010.

Accession Number: 20100805-5125.

Comment Date: 5 p.m. Eastern Time on Thursday, August 26, 2010.

Docket Numbers: ER10-2110-000.

Applicants: ITC Midwest LLC.

Description: ITC Midwest LLC submits materials in support of their request for authorization to use updated depreciation rates in the calculation of charges for transmission services provided under ER10-2110.

Filed Date: 08/02/2010.

Accession Number: 20100802-0237.

Comment Date: 5 p.m. Eastern Time on Monday, August 16, 2010.

Docket Numbers: ER10-2116-000.

Applicants: KCP&L Greater Missouri Operations Company.

Description: KCP&L Greater Missouri Operations Company submits tariff filing per 35.12: KCP&L-GMO OATT Volume 24 BASELINE to be effective 8/4/2010.

Filed Date: 08/04/2010.

Accession Number: 20100804-5124.

Comment Date: 5 p.m. Eastern Time on Wednesday, August 25, 2010.

Docket Numbers: ER10-2117-000.

Applicants: Boralex Livermore Falls LP.

Description: Boralex Livermore Falls LP submits tariff filing per 35.12: Boralex Livermore Falls LP Baseline Filing to be effective 8/5/2010.

Filed Date: 08/04/2010.

Accession Number: 20100804-5131.

Comment Date: 5 p.m. Eastern Time on Wednesday, August 25, 2010.

Docket Numbers: ER10-2118-000.

Applicants: Boralex Stratton Energy LP.

Description: Boralex Stratton Energy LP submits tariff filing per 35.12: Boralex Stratton Energy LP Baseline Filing to be effective 8/5/2010.

Filed Date: 08/04/2010.

Accession Number: 20100804-5132.

Comment Date: 5 p.m. Eastern Time on Wednesday, August 25, 2010.

Docket Numbers: ER10-2119-000.

Applicants: Boralex Fort Fairfield LP.

Description: Boralex Fort Fairfield LP submits tariff filing per 35.12: Boralex Fort Fairfield LP Baseline Filing to be effective 8/5/2010.

Filed Date: 08/04/2010.

Accession Number: 20100804-5135.

Comment Date: 5 p.m. Eastern Time on Wednesday, August 25, 2010.

Docket Numbers: ER10-2120-000.

Applicants: Virginia Electric and Power Company.

Description: Virginia Electric and Power Company submits tariff filing per 35.13(a)(2)(iii) Revised Tariff Sheets to be effective 8/3/2010.

Filed Date: 08/04/2010.

Accession Number: 20100804-5137.

Comment Date: 5 p.m. Eastern Time on Wednesday, August 25, 2010.

Docket Numbers: ER10-2121-000.

Applicants: Southern California Edison Company.

Description: Southern California Edison Company submits tariff filing per 35.13(a)(2)(iii) Letter Agreement Iberdrola Manzana Wind N 080510 to be effective 7/22/2010.

Filed Date: 08/05/2010.

Accession Number: 20100805-5000.

Comment Date: 5 p.m. Eastern Time on Thursday, August 26, 2010.

Docket Numbers: ER10-2122-000.

Applicants: California Independent System Operator Corporation.

Description: California Independent System Operator Corporation submits tariff filing per 35.13(a)(2)(iii) 2010-08-05 CAISO Service Agreement 1562, LGIA for CPC East to be effective 7/28/2010.

Filed Date: 08/05/2010.

Accession Number: 20100805-5003.

Comment Date: 5 p.m. Eastern Time on Thursday, August 26, 2010.

Docket Numbers: ER10-2123-000.

Applicants: Southwest Power Pool, Inc.

Description: Southwest Power Pool, Inc. submits tariff filing per 35.13(a)(2)(iii) 1903 Novus Wind II, LLC LGIA to be effective 7/30/2010.

Filed Date: 08/05/2010.

Accession Number: 20100805-5035.

Comment Date: 5 p.m. Eastern Time on Thursday, August 26, 2010.

Docket Numbers: ER10-2124-000.

Applicants: Spring Canyon Energy LLC.

Description: Spring Canyon Energy LLC submits tariff filing per 35: Refile Baseline Market-Based Rate Tariff Filing to be effective 8/5/2010.

Filed Date: 08/05/2010.

Accession Number: 20100805-5037.

Comment Date: 5 p.m. Eastern Time on Thursday, August 26, 2010.

Docket Numbers: ER10-2125-000.

Applicants: Judith Gap Energy LLC.

Description: Judith Gap Energy LLC submits tariff filing per 35: Refile Baseline Market-Based Rate Tariff Filing to be effective 8/5/2010.

Filed Date: 08/05/2010.

Accession Number: 20100805-5038.

Comment Date: 5 p.m. Eastern Time on Thursday, August 26, 2010.

Docket Numbers: ER10-2126-000.

Applicants: Idaho Power Company.

Description: Idaho Power Company submits tariff filing per 35.12: Idaho Power Baseline Tariffs to be effective 8/5/2010.

Filed Date: 08/05/2010.

Accession Number: 20100805-5039.

Comment Date: 5 p.m. Eastern Time on Thursday, August 26, 2010.

Docket Numbers: ER10-2127-000.

Applicants: Invenergy TN LLC.

Description: Invenergy TN LLC submits tariff filing per 35: Refile Baseline Market-Based Rate Tariff Filing to be effective 8/5/2010.

Filed Date: 08/05/2010.

Accession Number: 20100805-5040.

Comment Date: 5 p.m. Eastern Time on Thursday, August 26, 2010.

Docket Numbers: ER10-2128-000.

Applicants: Wolverine Creek Energy LLC.

Description: Wolverine Creek Energy LLC submits tariff filing per 35: Refile Baseline Market-Based Rate Tariff Filing to be effective 8/5/2010.

Filed Date: 08/05/2010.

Accession Number: 20100805-5041.

Comment Date: 5 p.m. Eastern Time on Thursday, August 26, 2010.

Docket Numbers: ER10-2129-000.

Applicants: Grays Harbor Energy LLC.

Description: Grays Harbor Energy LLC submits tariff filing per 35: Refile Baseline Market-Based Rate Tariff Filing to be effective 8/5/2010.

Filed Date: 08/05/2010.

Accession Number: 20100805-5042.

Comment Date: 5 p.m. Eastern Time on Thursday, August 26, 2010.

Docket Numbers: ER10-2130-000.

Applicants: Forward Energy LLC.

Description: Forward Energy LLC submits tariff filing per 35: Refile Baseline Market-Based Rate Tariff Filing to be effective 8/5/2010.

Filed Date: 08/05/2010.

Accession Number: 20100805-5043.

Comment Date: 5 p.m. Eastern Time on Thursday, August 26, 2010.

Docket Numbers: ER10-2131-000.

Applicants: Grand Ridge Energy LLC.

Description: Grand Ridge Energy LLC submits tariff filing per 35: Refile Baseline Market-Based Rate Tariff Filing to be effective 8/5/2010.

Filed Date: 08/05/2010.

Accession Number: 20100805-5044.

Comment Date: 5 p.m. Eastern Time on Thursday, August 26, 2010.

Docket Numbers: ER10-2132-000.

Applicants: Willow Creek Energy LLC.

Description: Willow Creek Energy LLC submits tariff filing per 35: Refile Baseline Market-Based Rate Tariff Filing to be effective 8/5/2010.

Filed Date: 08/05/2010.

Accession Number: 20100805-5045.

Comment Date: 5 p.m. Eastern Time on Thursday, August 26, 2010.

Docket Numbers: ER10-2133-000.

Applicants: Sheldon Energy LLC.

Description: Sheldon Energy LLC submits tariff filing per 35: Refile Baseline Market-Based Rate Tariff Filing to be effective 8/5/2010.

Filed Date: 08/05/2010.

Accession Number: 20100805-5046.

Comment Date: 5 p.m. Eastern Time on Thursday, August 26, 2010.

Docket Numbers: ER10-2134-000.

Applicants: Hardee Power Partners Limited.

Description: Hardee Power Partners Limited submits tariff filing per 35: Refile Baseline Market-Based Rate Tariff Filing to be effective 8/5/2010.

Filed Date: 08/05/2010.

Accession Number: 20100805-5047.

Comment Date: 5 p.m. Eastern Time on Thursday, August 26, 2010.

Docket Numbers: ER10-2135-000.

Applicants: Spindle Hill Energy LLC.

Description: Spindle Hill Energy LLC submits tariff filing per 35: Refile Baseline Market-Based Rate Tariff Filing to be effective 8/5/2010.

Filed Date: 08/05/2010.

Accession Number: 20100805-5048.

Comment Date: 5 p.m. Eastern Time on Thursday, August 26, 2010.

Docket Numbers: ER10-2136-000.

Applicants: Invenergy Cannon Falls LLC.

Description: Invenergy Cannon Falls LLC submits tariff filing per 35: Refile Baseline Market-Based Rate Tariff Filing to be effective 8/5/2010.

Filed Date: 08/05/2010.

Accession Number: 20100805-5049.

Comment Date: 5 p.m. Eastern Time on Thursday, August 26, 2010.

Docket Numbers: ER10-2137-000.

Applicants: Beech Ridge Energy LLC.

Description: Beech Ridge Energy LLC submits tariff filing per 35: Refile Baseline Market-Based Rate Tariff Filing to be effective 8/5/2010.

Filed Date: 08/05/2010.

Accession Number: 20100805-5050.

Comment Date: 5 p.m. Eastern Time on Thursday, August 26, 2010.

Docket Numbers: ER10-2138-000.

Applicants: Grand Ridge Energy II LLC.

Description: Grand Ridge Energy II LLC submits tariff filing per 35: Refile Baseline Market-Based Rate Tariff Filing to be effective 8/5/2010.

Filed Date: 08/05/2010.

Accession Number: 20100805-5051.

Comment Date: 5 p.m. Eastern Time on Thursday, August 26, 2010.

Docket Numbers: ER10-2139-000.

Applicants: Grand Ridge Energy III LLC.

Description: Grand Ridge Energy III LLC submits tariff filing per 35: Refile Baseline Market-Based Rate Tariff Filing to be effective 8/5/2010.

Filed Date: 08/05/2010.

Accession Number: 20100805-5052.

Comment Date: 5 p.m. Eastern Time on Thursday, August 26, 2010.

Docket Numbers: ER10-2140-000.

Applicants: Grand Ridge Energy IV LLC.

Description: Grand Ridge Energy IV LLC submits tariff filing per 35: Refile Baseline Market-Based Rate Tariff Filing to be effective 8/5/2010.

Filed Date: 08/05/2010.

Accession Number: 20100805-5053.

Comment Date: 5 p.m. Eastern Time on Thursday, August 26, 2010.

Docket Numbers: ER10-2141-000.

Applicants: Grand Ridge Energy V LLC.

Description: Grand Ridge Energy V LLC submits tariff filing per 35: Refile Baseline Market-Based Rate Tariff Filing to be effective 8/5/2010.

Filed Date: 08/05/2010.

Accession Number: 20100805-5054.

Comment Date: 5 p.m. Eastern Time on Thursday, August 26, 2010.

Docket Numbers: ER10-2142-000.

Applicants: ITC Midwest LLC.

Description: ITC Midwest LLC et al. submits transmittal letter and Operations Service Agreement for 34.5 kv transmission facilities etc.

Filed Date: 08/04/2010.

Accession Number: 20100805-0206.

Comment Date: 5 p.m. Eastern Time on Wednesday, August 25, 2010.

Docket Numbers: ER10-2143-000.

Applicants: Duke Energy Ohio, Inc.

Description: Duke Energy Ohio, Inc. Notice of Cancellation.

Filed Date: 08/05/2010.

Accession Number: 20100805-5066.

Comment Date: 5 p.m. Eastern Time on Thursday, August 26, 2010.

Docket Numbers: ER10-2144-000.

Applicants: RRI Energy West, Inc.

Description: RRI Energy West, Inc. submits tariff filing per 35.12: Baseline Filing to be effective 9/1/2010.

Filed Date: 08/05/2010.

Accession Number: 20100805-5102.

Comment Date: 5 p.m. Eastern Time on Thursday, August 26, 2010.

Docket Numbers: ER10-2145-000.

Applicants: Southwest Power Pool, Inc.

Description: Southwest Power Pool, Inc. submits tariff filing per 35.12: Baseline Electronic Governing Documents Tariff Filing to be effective 8/5/2010.

Filed Date: 08/05/2010.

Accession Number: 20100805-5103.

Comment Date: 5 p.m. Eastern Time on Thursday, August 26, 2010.

Docket Numbers: ER10-2146-000.

Applicants: California Independent System Operator Corporation.

Description: California Independent System Operator Corporation submits tariff filing per 35.13(a)(2)(iii: CAISO Service Agreement 1631, LGIA for CPC West to be effective 7/28/2010.

Filed Date: 08/05/2010.

Accession Number: 20100805-5126.

Comment Date: 5 p.m. Eastern Time on Thursday, August 26, 2010.

Docket Numbers: ER10-2147-000.

Applicants: California Independent System Operator Corporation.

Description: California Independent System Operator Corporation submits tariff filing per 35.13(a)(2)(iii: CAISO Service 1643, LGIA for Solar Partners II) to be effective 8/3/2010.

Filed Date: 08/05/2010.

Accession Number: 20100805-5127.

Comment Date: 5 p.m. Eastern Time on Thursday, August 26, 2010.

Docket Numbers: ER10-2148-000.

Applicants: California Independent System Operator Corporation.

Description: California Independent System Operator Corporation submits tariff filing per 35.13(a)(2)(iii: CAISO Service Agreement 1645, LGIA for Solar Partners VIII) to be effective 8/3/2010.

Filed Date: 08/05/2010.

Accession Number: 20100805-5128.

Comment Date: 5 p.m. Eastern Time on Thursday, August 26, 2010.

Take notice that the Commission received the following electronic securities filings:

Docket Numbers: ES10-51-000.

Applicants: AEP Appalachian Transmission Company, Inc, AEP Indiana Michigan Transmission Company, AEP Kentucky Transmission Company, Inc, AEP Oklahoma Transmission Company, Inc., AEP Southwestern Transmission Company, Inc, AEP West Virginia Transmission Company, Inc.

Description: Second Supplemental Application of AEP Appalachian Transmission Company, Inc., et al. under Section 204 of the Federal Power Act.

Filed Date: 08/05/2010.

Accession Number: 20100805-5077.

Comment Date: 5 p.m. Eastern Time on Monday, August 16, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-20135 Filed 8-13-10; 8:45 am]

BILLING CODE 6717-01-P